DEPARTMENT OF TRANSPORTATION

Federal Aviation Administration

[Docket No. 2023-2554]

Agency Information Collection Activities: Requests for Comments; Clearance of Renewal of an Information Collection: Operational Waivers for Small Unmanned Aircraft Systems

AGENCY: Federal Aviation Administration (FAA), DOT.

ACTION: Notice and request for comments.

SUMMARY: In accordance with the Paperwork Reduction Act of 1995, FAA invites public comments about our intention to request the Office of Management and Budget (OMB) approval for the renewal of an information collection. The Federal Register Notice with a 60-day comment period soliciting comments on the following collection of information was published on January 4, 2024. The collection involves information about requests for waivers from certain operational rules that apply to small unmanned aircraft systems (sUAS). The FAA uses the collected information to make determinations whether to authorize or deny the requested operations of sUAS. The information collected is necessary to issue such authorizations or denials consistent with the FAA's mandate to ensure safe and efficient use of national airspace.

DATES: Written comments should be submitted by April 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Daniel Ridgeway by email at: Dan.Ridgeway@faa.gov; or phone at: (360) 605-9425.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0796.

Title: Operational Waivers for Small Unmanned Aircraft Systems.

Form Numbers: N/A (Online Portal).

Type of Review: Renewal.

Background: The Federal Register Notice with a 60-day comment period soliciting comments on the following collection of information was published on January 4, 2024 (89 FR 501). The FAA is seeing increased complexity of small unmanned aircraft systems (sUAS) operation flying under 14 CFR part 107. Under 14 CFR 107.205, operators of small UAS continue to request waivers from certain operational rules. In 2018, the FAA updated and modernized the process for applying for such waivers by introducing the FAADroneZone website. These improvements have facilitated the process of collecting and submitting the information required as part of a waiver application. In 2021, recognizing the demand to expedite the integration of unmanned aircraft systems (UAS) into the National Airspace System (NAS), the FAA revised the regulatory framework for safely integrating UAS into routine NAS operations. The was accomplished by publishing the “Operation of Small Unmanned Aircraft Systems Over People” rule in January 2021, which permitted routine operations of small unmanned aircraft over people and at night under certain conditions. This change significantly decreased the waiver requests for such operations by over 55%. In order to process operational waiver requests, the FAA requires the operator's name, the operator's contact information, and information related to the date, place, and time of the requested small UAS operation. Additional information is required related to the proposed waiver and any necessary mitigations. The FAA will use the requested information to determine if the proposed UAS operation can be conducted safely. This information is necessary for the FAA to meet its statutory mandate of maintaining a safe and efficient national airspace. See 49 U.S.C. 40103, 44701 and 44807.

Respondents: sUAS 107 Waiver Applications: 3,565 per year.

Frequency: On occasion. For operational waivers requests, a respondent provides the information once, at the time of the request for a waiver. If granted, operational waivers may be valid for up to four (4) years.

Estimated Average Burden per Response: 0.65 hours per response.

Estimated Total Annual Burden: 2,317 hours.

Issued in Washington, DC, on March 22, 2024.
Daniel Ridgeway,
Aviation Safety Inspector, Flight Standards Service, Emerging Technologies Division (AFS-700).

[FR Doc. 2024-06530 Filed 3-26-24; 8:45 am]

BILLING CODE 4910-13-P